ENVIRONMENTAL PROTECTION AGENCY

[EPA-HQ-OAR-2023-0110; FRL-11862-01-OMS]

Agency Information Collection Activities; Submission to the Office of Management and Budget for Review and Approval; Comment Request; NSPS for Metal Coil Surface Coating (Renewal)

AGENCY: Environmental Protection Agency (EPA).

ACTION: Notice.

SUMMARY: The Environmental Protection Agency (EPA) has submitted an information collection request (ICR), NSPS for Metal Coil Surface Coating (EPA ICR Number 0660.14, OMB Control Number 2060-0107) to the Office of Management and Budget (OMB) for review and approval in accordance with the Paperwork Reduction Act. This is a proposed extension of the ICR, which is currently approved through March 31, 2024. Public comments were previously requested, via the Federal Register on May 18, 2023, during a 60-day comment period. This notice allows for an additional 30 days for public comments.

DATES: Comments may be submitted on or before April 29, 2024.

ADDRESSES: Submit your comments, referencing Docket ID Number EPA-HQ-OAR-2023-0110, to EPA online using www.regulations.gov/ (our preferred method), by email to a-and-r-docket@epa.gov, or by mail to: EPA Docket Center, Environmental Protection Agency, Mail Code 28221T, 1200 Pennsylvania Ave. NW, Washington, DC 20460. The EPA's policy is that all comments received will be included in the public docket without change, including any personal information for the proposed provided, unless the comment includes profanity, threats, information claimed to be Confidential Business Information (CBI), or other information whose disclosure is restricted by statute.

Submit comments and recommendations to OMB for the proposed information collection within 30 days of publication of this notice to https://www.reginfo.gov/public/do/PRAMain. Find this particular information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through March 31, 2024. An agency may neither conduct nor sponsor, and a person is not required to respond to a collection of information unless it displays a currently-valid OMB control number.

Public comments were previously requested, via the Federal Register on May 18, 2023, during a 60-day comment period (88 FR 31748). This notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart TT were proposed on January 5, 1981, promulgated on November 1, 1982, and most recently amended on October 17, 2000. These regulations apply to existing and new metal coil surface coating facilities with the following surface coating lines: each prime coat operation; each finish coat operation; and each prime and finish coat operation cured simultaneously, where the finish coat is applied wet-on-wet over the prime coat. New facilities include those that commenced construction, modification, or reconstruction after the date of proposal. This information is being collected to assure compliance with 40 CFR part 60, subpart TT.

Form Numbers: None.

Respondents/affected entities: Metal coil surface coating facilities.

Respondent's obligation to respond: Mandatory (40 CFR part 60, subpart TT).

Estimated number of respondents: 158 (total).

Frequency of response: Initially, quarterly, occasionally, semiannually, and annually.

Total estimated burden: 16,200 hours (per year). Burden is defined at 5 CFR 1320.3(b).

Total estimated cost: $2,200,000 (per year), which includes $151,000 in annualized capital/startup and/or operation & maintenance costs.

Changes in the Estimates: There is no change in burden from the most-recently approved ICR as currently identified in the OMB Inventory of Approved Burdens. This is due to two considerations: (1) the regulations have not changed over the past three years and are not anticipated to change over the next three years; and (2) the growth rate for this industry is very low or non-existent, so there is no significant change in the overall burden. Although there are no changes in the regulatory requirements and there is no significant industry growth, there is a decrease in the operation and maintenance (O&M) costs due to a calculation correction to the number of respondents using temperature monitoring systems.

Courtney Kerwin,
Director, Regulatory Support Division.

[FR Doc. 2024-06554 Filed 3-27-24; 8:45 am]

BILLING CODE 6560-50-P